DEPARTMENT OF HEALTH AND HUMAN SERVICES

Centers for Medicare and Medicaid Services

[CMS-R-284]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision of a currently approved collection.

Title of Information Collection: Medicaid Statistical Information System (MMIS).

Form No.: HCFA-R-0284 (OMB# 0938-0345).

Use: State data are reported by a Federally mandated process known as MSIS. These data are the basis for: Medicaid actuarial forecasts for service utilization and costs; Medicaid legislative analysis and cost savings estimates; and responding to requests for information from CMS components, the Department, Congress, and other customers. The national MSIS database will contain details that will allow constructive or predictive analysis of today's Medicaid issues (e.g., pregnant women, and infants).

Frequency: Quarterly and Annually.

Affected Public: State, Local, or Tribal Government.

Number of Respondents: 53.

Total Annual Responses: 212.

Total Annual Hours: 2,120.

To obtain copies of the supporting statement and any related forms for the proposed paperwork collections referenced above, access CMS's Web Site address at http://www.hcfa.gov/regs/prdact95.htm, or e-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address:CMS, Office of Information Services, Security and Standards Group, Division of CMS Enterprise Standards,Attention: Julie Brown, CMS-R-284,Room N2-14-26,7500 Security Boulevard,Baltimore, Maryland 21244-1850.

Dated: March 1, 2002.
Julie Brown,
Acting Reports Clearance Officer, Security and Standards Group, Division of CMS Enterprise Standards.

[FR Doc. 02-6347 Filed 3-15-02; 8:45 am]

BILLING CODE 4120-03-P